DEPARTMENT OF VETERANS AFFAIRS

West Los Angeles VA Medical Center; Draft Master Plan

AGENCY: Department of Veterans Affairs.

ACTION: Notice—Correction.

SUMMARY: On February 2, 2016, the Department of Veterans Affairs (VA) published a notice in the Federal Register announcing publication of the Draft Master Plan for the West Los Angeles Department of Veterans Affairs campus. That notice contained language that we are now clarifying.

DATES: These corrections will be effective as of February 12, 2016.

Correction

The notice VA published in the Federal Register on February 2, 2016 (81 FR 552), stated on page 5526, in the third column:

“The proposed timeline involves developing 60 units within the next 12 months, 150 units over the next 24 to 30 months, 280 units over the next 30 months, 280 units over the next 4 to 5 years, and 430 units over the next 6 to 10 years—all totaling 1,200 units.”

As a clarification, that sentence is being replaced with the following sentence:

“Specifically, after legislative enactment, the proposed timeline involves developing 490 units within the first 30 months, 280 additional units within 4 to 5 years, and 430 additional units within 6 to 10 years—all totaling 1,200 units.”

Dated: February 9, 2016.
William F. Russo,
Office of the General Counsel, US Department of Veterans Affairs.

[FR Doc. 2016-02883 Filed 2-11-16; 8:45 am]

BILLING CODE 8320-01-P